DEPARTMENT OF LABOR

Employment and Training Administration

[TA-W-64,513]

Signa Group, Inc. d/b/a Whitehall Industries, Inc., Ludington, MI; Notice of Termination of Investigation

Pursuant to Section 221 of the Trade Act of 1974, as amended, an investigation was initiated on November 24, 2008 in response to a petition filed by a company official on behalf of the workers at Signa Group, Inc., d/b/a Whitehall Industries, Inc., Ludington, Michigan.

The petitioner has requested that the petition be withdrawn. Consequently, the investigation has been terminated.

Signed at Washington, DC, this 4th day of December 2008.
Richard Church,
Certifying Officer, Division of Trade Adjustment Assistance.

[FR Doc. E8-29618 Filed 12-12-08; 8:45 am]

BILLING CODE 4510-FN-P